SMALL BUSINESS ADMINISTRATION

[Declaration of Disaster #3339]

State of Wisconsin

As a result of the President's major disaster declaration on May 11, 2001, I find that Buffalo, Burnett, Crawford, Douglas, Grant, La Crosse, Pepin, Pierce, St. Croix, Trempealeau and Vernon Counties in the State of Wisconsin constitute a disaster area due to damages caused by flooding occurring between April 10, 2001 and continuing. Applications for loans for physical damage as a result of this disaster may be filed until the close of business on July 10, 2001 and for economic injury until the close of business on February 11, 2002 at the address listed below or other locally announced locations: U.S. Small Business Administration, Disaster Area 2 Office, One Baltimore Place, Suite 300, Atlanta, GA 30308.

In addition, applications for economic injury loans from small businesses located in the following contiguous counties in Wisconsin may be filed until the specified date at the above location: Barron, Bayfield, Dunn, Eau Clair, Iowa, Jackson, Juneau, Lafayette, Monroe, Polk, Richland, Sauk, Sawyer and Washburn; and Carlton, Chisago, Dakota, Goodhue, Houston, Pine, St. Louis, Wabasha, Washington and Winona Counties in the State of Minnesota.

The interest rates are:

| Percent
For Physical Damage:
Homeowners With Credit Available Elsewhere | 6.625
Homeowners Without Credit Available Elsewhere | 3.312
Businesses With Credit Available Elsewhere | 8.000
Businesses and Non-Profit Organizations Without Credit Available Elsewhere | 4.000
Others (Including Non-Profit Organizations) With Credit Available Elsewhere | 7.125
For Economic Injury:
Businesses and Small Agriculture Cooperatives Without Credit Available Elsewhere | 4.000

The number assigned to this disaster for physical damage is 333906. For economic injury the numbers assigned are 9L6900 for Wisconsin and 9L7000 for Minnesota.

Iowa counties and Illinois counties contiguous to the above named primary counties are not listed here because they have been previously declared.

(Catalog of Federal Domestic Assistance Program Nos. 59002 and 59008)

Dated: May 14, 2001.
Herbert L. Mitchell,
Associate Administrator for Disaster Assistance.

[FR Doc. 01-12584 Filed 5-17-01; 8:45 am]

BILLING CODE 8025-01-P